DEPARTMENT OF ENERGY

Federal Energy Regulatory Commission

[Project No. 11243-016]

Cordova Electric Cooperative, Inc.; Notice of Availability of Final Environmental Assessment

May 3, 2000.

In accordance with the National Environmental Policy Act of 1969 and the Federal Energy Regulatory Commission's (Commission's) regulations, the Office of Energy Projects has reviewed the application requesting the Commission's approval of an application to amend the license for the Power Creek Project for the routing of a section of the licensed underground transmission line to an underwater route along the bottom of Eyak Lake. The Power Creek Project is located on Power Creek near Cordova, Alaska.

A Final Environmental Assessment (FEA) has been prepared by staff for the proposed action. In the FEA, Commission staff does not identify any significant impacts that would result from the Commission's approval of the proposed rerouting of a section of the project transmission to an underwater route. Thus, staff concludes that approval of the proposed amendment of license would not constitute a major federal action significantly affecting the quality of the human environment.

The FEA has been attached to and made a part of an Order Amending License, issued April 27, 2000, for the Power Creek Project (FERC No. 11243-016). Copies of the FEA can be viewed at the Commission's Public Reference Room, Room 2A, 888 First Street, NE, Washington, DC 20426, or by calling (202) 208-1371. The FEA also may be viewed on the Web at www.ferc.fed.us/online/rims.htm. Call (202) 208-2222 for assistance.

David P. Boergers,
Secretary.

[FR Doc. 00-11489 Filed 5-8-00; 8:45 am]

BILLING CODE 6717-01-M